DEPARTMENT OF ENERGY

Federal Energy Regulatory Commission

[Docket Nos. CP16-454-000, CP16-455-000, PF15-14-000]

Rio Grande LNG, LLC, Rio Bravo Pipeline Company, LLC; Notice of Application

Take notice that on May 5, 2016, Rio Grande LNG, LLC (Rio Grande), 3 Water-way Square Place, Suite 400, The Woodlands, Texas 77380, filed an application, in Docket No. CP16-454-000, pursuant to section 3(a) of the Natural Gas Act (NGA) and Part 153 of the Commission's Regulations, requesting authorization to site, construct, modify, and operate a natural gas liquefaction facility and liquefied natural gas export and truck loading terminal, located in Cameron County, Texas.

Also, take notice that on May 5, 2016, Rio Bravo Pipeline Company, LLC (Rio Bravo), 3 Waterway Square Place, Suite 400, The Woodlands, Texas 77380, filed an application pursuant to Section 7(c) of the NGA, and Parts 157 and 284 of the Commission's regulations, an application in Docket No. CP16-455-000 for (1) a certificate of public convenience and necessity (i) authorizing Rio Bravo to construct, own, and operate a natural gas pipeline system, (ii) approving a pro forma Tariff, and (iii) approving the proposed initial rates for service; (2) a Part 157, Subpart F blanket certificate authorizing Rio Bravo to engage in certain self-implementing routine activities; and (3) a Part 284, Subpart G blanket certificate authorizing Rio Bravo to transport natural gas, on an open access and self-implementing basis.

These filings may be viewed on the web at http://www.ferc.gov using the “eLibrary” link. Enter the docket number excluding the last three digits in the docket number field to access the document. For assistance, contact FERC at FERCOnlineSupport@ferc.gov or call toll-free (886) 208-3676 or TYY (202) 502-8659.

Any questions regarding this application should be directed to Shaun Davison, Senior Vice President, Rio Grande LNG, LLC/Rio Bravo Pipeline Company, LLC, 3 Waterway Square Place, Suite 400, The Woodlands, Texas 77380, (832) 403-3040, shaun@riobravopipeline.com, or Erik J.A. Swenson, Norton Rose Fulbright US LLP, 799 9th Street NW., Suite 1000, Washington, DC 20001-4501, (202) 662-4555, erik.j.a.swenson@nortonrosefulbright.com, with written and electronic correspondence copied to Krysta De Lima, General Counsel, Rio Grande LNG, LLC/Rio Bravo Pipeline Company, LLC, 3 Waterway Square Place, Suite 400, The Woodlands, Texas 77380, krysta@riobravopipeline.com.

Specifically, Rio Grande proposes to construct an LNG export terminal on the Port of Brownsville ship channel. The terminal will consist of six liquefaction trains with a total capacity of 3.6 Bcf per day, four LNG tanks capable of storing 15.26 Bcf of LNG, marine and truck loading facilities, and all necessary ancillary and support facilities.

Rio Bravo proposes to construct 139.4 miles of pipeline, three compressor stations and two booster stations totaling 600,000 hp, and associated facilities to deliver up to 4.5 Bcf per day of natural gas from the Agua Dulce Market area to the Rio Grande terminal. The facilities will be located in Jim Wells, Kleberg, Kenedy, Willacy and Cameron Counties, Texas. The pipeline facilities cost an estimated $2,173,362,909.

On April 13, 2015, the Commission staff granted Rio Grande/Rio Bravo's request to use the National Environmental Policy Act (NEPA) Pre-Filing Process and assigned Docket No. PF15-20-000 to staff activities involving the proposed facilities. Now, as of the filing of this application on May 5, 2016, the NEPA Pre-Filing Process for this project has ended. From this time forward, this proceeding will be conducted in Docket Nos. CP16-454-000 and CP16-455-000, as noted in the caption of this Notice.

Pursuant to section 157.9 of the Commission's rules, 18 CFR 157.9, within 90 days of this Notice the Commission staff will either: complete its environmental assessment (EA) and place it into the Commission's public record (eLibrary) for this proceeding, or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 5 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the internet in lieu of paper; see, 18 CFR 385.2001(a)(1)(iii) and the instructions on the Commission's Web site under the “e-Filing” link. The Commission strongly encourages electronic filings.

Comment Date: 5:00 p.m. Eastern Time May 9, 2016.

Dated: May 19, 2016.
Kimberly D. Bose,
Secretary.

[FR Doc. 2016-12414 Filed 5-25-16; 8:45 am]

BILLING CODE 6717-01-P